DEPARTMENT OF COMMERCE

National Institute of Standards and Technology

RIN 0693-XA10

Proposed Revision to Voluntary Product Standard (PS) 20-20 “American Softwood Lumber Standard”

AGENCY: National Institute of Standards and Technology, Department of Commerce.

ACTION: Notice and request for comments.

SUMMARY: This notice advises the public that the National Institute of Standards and Technology (NIST) is seeking comments for the proposed revision of Voluntary Product Standard (PS) 20-20, “American Softwood Lumber Standard.” This standard, prepared by the American Lumber Standard Committee, serves the procurement and regulatory needs of numerous Federal, State, and local government agencies by providing for uniform, industry-wide grade-marking and inspection requirements for softwood lumber. The implementation of the standard also allows for uniform labeling and auditing of treated wood and, through a Memorandum of Understanding with the U.S. Department of Agriculture, labeling and auditing of wood packaging materials for international trade. As part of a five-year review process, NIST is seeking public comment and invites interested parties to review the revised standard and submit comments.

DATES: Written comments regarding the proposed revision, PS 20-25, should be submitted to the Standards Coordination Office, NIST, no later than April 22, 2024.

ADDRESSES: An electronic copy (in PDF) of the current standard, PS 20-20, can be obtained at the following website https://www.nist.gov/standardsgov/voluntary-product-standards-program. Written comments on the standard should be submitted to Nathalie Rioux via email to standards@nist.gov or via mail to Standards Coordination Office, NIST, 100 Bureau Drive, Stop 2150, Gaithersburg, MD 20899-2150.

FOR FURTHER INFORMATION CONTACT: Nathalie Rioux, Standards Coordination Office, National Institute of Standards and Technology, email: standards@nist.gov.

SUPPLEMENTARY INFORMATION: Under Department of Commerce regulations codified in title 15, Code of Federal Regulations, part 10, Procedures for the Development of Voluntary Product Standards, and administered by NIST, the American Lumber Standard Committee acts as the Standing Committee for PS 20-20, American Softwood Lumber Standard, responsible for maintaining, revising, and interpreting the standard. The Committee is comprised of producers, distributors, users, and others with an interest in the standard.

Voluntary Product Standard (PS) 20-20 establishes standard sizes and requirements for developing and coordinating the lumber grades of the various species of lumber, the assignment of design values, and the preparation of grading rules applicable to each species. Its provisions include implementation of the standard through an accreditation and certification program; establishment of principal trade classifications and lumber sizes for yard, structural, and factory/shop use; classification, measurement, grading, and grade-marking of lumber; definitions of terms and procedures to provide a basis for the use of uniform methods in the grading inspection, measurement, and description of softwood lumber; commercial names of the principal softwood species; definitions of terms used in describing standard grades of lumber; and commonly used industry abbreviations. The standard also includes the organization and functions of the American Lumber Standard Committee, the Board of Review, and the National Grading Rule Committee.

All public comments will be reviewed and considered. All comments, including attachments will be accepted in Microsoft word, or Adobe PDF formats. Comments containing references, studies, research, and other empirical data that are not widely published should include copies or electronic links of the referenced materials.

All submissions, including attachments and other supporting materials, will become part of the public record and subject to public disclosure. NIST reserves the right to publish comments publicly, unedited and in their entirety. Sensitive personal information, such as account numbers or Social Security numbers, or names of other individuals, should not be included. Comments will not be edited to remove any identifying or contact information. Do not submit confidential business information, or otherwise sensitive or protected information. Comments that contain profanity, vulgarity, threats, or other inappropriate language or content will not be considered.

Written comments should be submitted in accordance with the DATES and ADDRESSES sections of this notice. The American Lumber Standard Committee and NIST will consider all responsive comments received and may revise the standard as appropriate.

Tamiko Ford,
NIST Executive Secretariat.

[FR Doc. 2024-04741 Filed 3-5-24; 8:45 am]

BILLING CODE 3510-13-P